DEPARTMENT OF TRANSPORTATION

Bureau of Transportation Statistics

[Docket Number RITA-2008-0002]

Agency Information Collection Activity; Notice To Continue To Collect: Confidential Close Call Transit Data for the Washington Metropolitan Area Transit Authority (WMATA)

AGENCY: Bureau of Transportation Statistics (BTS), Office of the Assistant Secretary for Research and Technology (OST-R), U.S. Department of Transportation.

ACTION: Notice to continue to collect confidential close call transit data.

SUMMARY: In accordance with the requirements of section 3506(c)(2)(A) of the Paperwork Reduction Act of 1995, this notice announces the intention of the Bureau of Transportation Statistics (BTS) to request the Office of Management and Budget (OMB) to reinstate previously approved OMB Number 2139-0010 for the following information collection: Confidential Close Call Transit Data for the Washington Metropolitan Area Transit Authority (WMATA or the Authority), which includes but is not limited to the collection of data from Rail, Bus, Information Technology, and Command Center personnel. This data collection effort supports a multi-year program focused on improving the Authority, in its entirety by collecting and analyzing data and information on close calls and other unsafe occurrences within WMATA. The program is co-sponsored by WMATA and labor leadership including: The President/Business Agent of the Amalgamated Transit Union (ATU) Local 689, the International Brotherhood of Teamsters (IBT) Local 922 and Office & Professional Employees International Union (OPEIU) Local 2. The Close Call program is designed to identify safety issues and propose preventive actions based on voluntary reports of a close call submitted confidentially to BTS, an Agency within the U.S. Department of Transportation. This information collection is necessary for systematically analyzing data to identify root causes of potentially unsafe events.

DATES: Written comments should be submitted by January 15, 2021.

ADDRESSES: To ensure that your comments are not entered more than once into the docket, submit comments by only one of the following methods:

• Federal eRulemaking Portal: Go to http://www.regulations.gov and follow the instructions for sending your comments electronically. Docket Number: DOT-OST-2017-0043.

• Mail: Docket Services, U.S. Department of Transportation, 1200 New Jersey Avenue SE, West Building, Ground Floor, Room W12-140, Washington, DC 20590-0001.

• Hand Delivery: Deliver to mail address above between 9 a.m. and 5 p.m. EST, Monday through Friday, except Federal holidays.

• Fax: (202) 493-2251.

Identify all transmissions with “Docket Number RITA-2008-0002” at the beginning of each page of the document.

Instructions: All comments must include the agency name and docket number for this notice. Paper comments should be submitted in duplicate. The Docket Management Facility is open for examination and copying, at the above address from 9 a.m. to 5 p.m. EST, Monday through Friday, except Federal holidays. If you wish to receive confirmation of receipt of your written comments, please include a self-addressed, stamped postcard with the following statement: “Comments on Docket Number RITA-2008-0002.” The Docket Clerk will date stamp the postcard prior to returning it to you via the U.S. mail. Please note that all comments received, including any personal information, will be posted and will be publicly viewable, without change, at www.regulations.gov. You may review DOT's complete Privacy Act Statement in the Federal Register published on April 11, 2000 (Volume 65, Number 70; pages 19477-78) or you may review the Privacy Act Statement at www.regulations.gov.

FOR FURTHER INFORMATION CONTACT: Demetra V. Collia, Bureau of Transportation Statistics, Office of the Assistant Secretary for Research and Technology, U.S. Department of Transportation, Office of Safety Data and Analysis, RTS-31, E36-302, 1200 New Jersey Avenue SE, Washington, DC 20590-0001; Phone No. (202) 366-1610; Fax No. (202) 366-3383; email: demetra.collia@dot.gov. Office hours are from 8:30 a.m. to 5 p.m., EST, Monday through Friday, except Federal holidays.

Data Confidentiality Provisions: Under this data collection, the confidentiality of the information submitted to BTS is protected under the BTS confidentiality statute (49 U.S.C. 6307) and the Confidential Information Protection and Statistical Efficiency Act (CIPSEA) of 2018 (Pub. L: 115-435 Foundations for Evidence-Based Policymaking Act of 2018, Title III). In accordance with these confidentiality statutes, only statistical (aggregated) and non-identifying data will be made publicly available by BTS through its reports. BTS will not release to WMATA or any other public or private entity any information that might reveal the identity of individuals who have submitted a report.

SUPPLEMENTARY INFORMATION:

I. The Data Collection

The Paperwork Reduction Act of 1995 (44 U.S.C. chapter 35; as amended) and 5 CFR part 1320 require each Federal agency to obtain OMB approval to initiate an information collection activity. BTS is seeking OMB approval to continue the following BTS information collection activity:

Title: Confidential Close Call Transit Data.

OMB Control Number: TBD.

Type of Review: Continue to Collect.

Respondents: WMATA employees.

Number of Potential Responses:150 (per annum).

Estimated Time per Response: 60 minutes.

Frequency: Intermittent for 3 years. Reports are submitted when there is a qualifying event.

Total Annual Burden:150 hours.

Abstract: Collecting safety data on the nation's transportation system is an important component of BTS's mission and responsibility to the transportation community and is authorized in BTS statute (49 U.S.C. Sec. 6302). BTS and WMATA share a common interest in promoting safety based on accurate information. To that end, WMATA and the Amalgamated Transit Union (ATU) Local 689, the International Brotherhood of Teamsters (IBT) Local 922 and Office & Professional Employees International Union (OPEIU) Local 2 have supported the Confidential Close Call Program at WMATA as a means of fostering an environment of ongoing advancements in their safety culture.

A close call is a situation or circumstance that had the potential for safety consequences, but did not result in an adverse safety event. Knowledge of a close call presents an opportunity to address unsafe work conditions and encourage a culture of safety in the workplace. It is estimated that the time to complete a close call report and participate in a brief confidential interview will be no than 60 minutes for a maximum total burden of 150 hours (150 reports*60 minutes/60 = 150 hours). Reports are submitted when there is a qualifying event, i.e., when a close call occurs within any office of the Authority.

II. Background

WMATA deployed the Close Call program in April 2013, and in May 2016 the program expanded to include bus employees. The Confidential Close Call Program is a Cooperative Agreement between BTS and WMATA management, the Amalgamated Transit Union (ATU) Local 689, the International Brotherhood of Teamsters (IBT) Local 922 and Office & Professional Employees International Union (OPEIU) Local 2. This program provides a confidential platform to facilitate the voluntary reporting of close call events without fear of discipline. Collecting data on the nation's transportation system is an important component of BTS' mission and responsibility to the transportation community as stated in its authorizing statute (49 U.S.C. Sec. 6302). BTS and WMATA/ATU, IBT Local 922 and OPEIU Local 2, share a common interest in promoting rail transit and bus safety using timely, accurate, and relevant data. WMATA/ATU, IBT Local 922 and OPEIU Local 2, is sponsoring the Confidential Close Call Program for Transit Rail and Bus System to improve transit rail and bus safety by studying the effectiveness of its own systems through the data and information collected from reported close call events.

Any situation or circumstance that has the potential for safety consequences, but did not result in an adverse safety event is defined as a close call. Knowledge about a close call presents an opportunity to address unsafe work conditions and practices, prevent accidents, contribute to policy making decisions and improve overall safety in the workplace.

BTS collects close call reports submitted by WMATA employees, conducts employee interviews, develops and maintains an analytical database containing reported data and other pertinent information, provides statistical analysis to WMATA, and protects the confidentiality of these data through its own statute (49 U.S.C. Sec. 6302) and CIPSEA. Only statistical and non-sensitive information will be made available through publications and reports.

Voluntary reporting of close calls to a confidential system provides a tool to identify and correct weaknesses within WMATA and prevents accidents. Close Call reporting fosters a voluntary, cooperative, non-punitive environment to communicate safety concerns for the greater good. Through the analysis of the data that is reported, WMATA receives information about factors that contribute to unsafe events, which becomes the catalyst to develop new training programs and identify root causes of adverse events. The database also provides researchers with valuable information regarding precursors to safety risks and contributes to research and development of intervention programs aimed at averting accidents and fatalities.

Employees involved in reporting a close call incident are asked to fill out a report and participate in a brief, confidential interview. Employees submit the report electronically to BTS. Participants will be asked to provide information such as: (1) Name and contact information; (2) time and location of the event; (3) a short description of the event; (4) contributing factors to the close call; and (5) any other information that might be useful in determining a root cause of such event.

III. Request for Public Comment

BTS requests comments on any aspects of this information collection request, including: (1) The accuracy of the estimated burden of 150 hours detailed in Section I; (2) ways to enhance the quality, usefulness, and clarity of the collected information; and (3) ways to minimize the collection burden without reducing the quality of the information collected, including additional use of automated collection techniques or other forms of information technology.

Demetra V. Collia,
Office of Safety Data and Analysis, Office of the Assistant Secretary for Research and Technology, U.S. Department of Transportation.

[FR Doc. 2020-25275 Filed 11-16-20; 8:45 am]

BILLING CODE 4910-HY-P